ENVIRONMENTAL PROTECTION AGENCY

[EPA-HQ-OECA-2012-0506; FRL-9993-81-OMS]

Information Collection Request Submitted to OMB for Review and Approval; Comment Request; NSPS for Small Municipal Waste Combustors (Renewal)

AGENCY: Environmental Protection Agency (EPA).

ACTION: Notice.

SUMMARY: The Environmental Protection Agency (EPA) has submitted an information collection request (ICR), NSPS for Small Municipal Waste Combustors (EPA ICR Number 1900.07, OMB Control Number 2060-0423), to the Office of Management and Budget (OMB) for review and approval in accordance with the Paperwork Reduction Act. This is a proposed extension of the ICR, which is currently approved through May 31, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before June 24, 2019.

ADDRESSES: Submit your comments, referencing Docket ID Number EPA-HQ-OECA-2012-0506 to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The New Source Performance Standards (NSPS) for Small Municipal Waste Combustors (40 CFR part 60, subpart AAAA) were proposed on August 30, 1999, and promulgated on December 6, 2000. These regulations apply to both existing facilities and new facilities with small municipal waste combustor (MWCs) that combust greater than 35 tons per day (tpd), but with less than 250 tpd of municipal solid waste. New facilities include those that commenced construction, modification or reconstruction after the date of proposal. This information is being collected to assure compliance with 40 CFR part 60, subpart AAAA.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Small municipal waste combustors (MWCs).

Respondent's obligation to respond: Mandatory (40 CFR part 60, subpart AAAA).

Estimated number of respondents: 5 (total).

Frequency of response: Initially, annually, and semiannually.

Total estimated burden: 17,700 hours (per year). Burden is defined at 5 CFR 1320.3(b).

Total estimated cost: $2,010,000 (per year), which includes $207,000 in annualized capital/startup and/or operation & maintenance costs.

Changes in the Estimates: There is an overall increase in respondent burden from the most recently-approved ICR due to an increase in the number of respondents. The number of respondents reflects a continued growth rate of one new respondent over the next three years. There is also an increase in the operation and maintenance (O&M) costs due to the increase in the number of respondents.

Courtney Kerwin,
Director, Regulatory Support Division.

[FR Doc. 2019-10891 Filed 5-23-19; 8:45 am]

BILLING CODE 6560-50-P